FEDERAL MARITIME COMMISSION

46 CFR Part 535

[Docket No. 16-09]

RIN 3072-AC65

Optional Method of Filing Ocean Common Carrier and Marine Terminal Operator Agreements Subject to the Shipping Act of 1984

AGENCY: Federal Maritime Commission.

ACTION: Confirmation of effective date of direct final rule.

SUMMARY: The Federal Maritime Commission (Commission) is publishing this document to confirm the effective date of the direct final rule published on April 27, 2016.

DATES: The direct final rule published on April 27, 2016 (81 FR 24703) will become effective on June 13, 2016.

FOR FURTHER INFORMATION CONTACT: Karen V. Gregory, Secretary, Federal Maritime Commission, 800 North Capitol Street NW., Washington, DC 20573-0001. Phone: (202) 523-5725. Email: secretary@fmc.gov.

SUPPLEMENTARY INFORMATION: On April 27, 2016 (81 FR 24703), the Commission published a direct final rule (DFR) amending 46 CFR part 535 relating to the filing of Ocean Common Carrier and Marine Terminal Operator Agreements to provide for optional filing of these agreements through a new electronic filing system. The Commission indicated that if it did not receive any significant adverse comments by May 27, 2016, the DFR would go into effect on June 13, 2016.

The Commission received only one comment that was not a significant adverse comment, but rather in support of the amendments. The commenter stated that the amendments are a “win-win” and will make the filing process of agreements and amendments more efficient, expeditious, and effective. The Commission agrees with the commenter that the optional filing system will facilitate more efficient filing, review, and publication of these agreements. Therefore, because the Commission received no significant adverse comments, the amendments to 46 CFR part 535 will become effective on June 13, 2016.

By the Commission.
Rachel E. Dickon,
Assistant Secretary.

[FR Doc. 2016-13889 Filed 6-10-16; 8:45 am]

BILLING CODE 6731-AA-P